DEPARTMENT OF ENERGY

Federal Energy Regulatory Commission

18 CFR Part 2

[Docket No. RM98-9-000; Order No. 603]

Revision of Existing Regulation Under Part 157 and Related Sections of the Commission's Regulations Under the Natural Gas Act; Correction

March 31, 2000.

AGENCY: Federal Energy Regulatory Commission, DOE.

ACTION: Final rule; correction.

SUMMARY: The Federal Energy Regulatory Commission (“Commission”) published in the Federal Register of May 14, 1999, a document updating its regulations governing the filing of applications for the construction and operation of facilities to provide service or to abandon facilities or service under section 7 of the Natural Gas Act. Two amendatory instructions for Part 2 were incorrectly stated. This document corrects those amendatory instructions.

DATES: Effective on April 7, 2000.

FOR FURTHER INFORMATION CONTACT: Julia A. Lake, Attorney, Federal Energy Regulatory Commission, 888 First Street, NW, Washington, DC 20426; phone: 202-208-2019; e-mail: julia.lake@ferc.fed.us.

SUPPLEMENTARY INFORMATION: The Federal Energy Regulatory Commission (“Commission”) published in the Federal Register of May 14, 1999, a document updating its regulations governing the filing of applications for the construction and operation of facilities to provide service or to abandon facilities or service under section 7 of the Natural Gas Act. Two amendatory instructions for Part 2 were incorrectly stated. This document corrects those amendatory instructions.

In rule FR Doc. 99-11247, published on May 14, 1999 (64 FR 26571), make the following corrections.

1. On page 26603, in the first column, correct amendatory instruction 2 to read as follows:

“2. In § 2.1, paragraph (a)(1)(viii) is removed.”

2. On page 26603, in the first column, correct amendatory instruction 3 to read as follows:

“3. In § 2.55, paragraph (a) is revised; (b)(1)(ii) is revised; (b)(4) heading is removed; (b)(4)(i) is removed and (b)(4)(ii) is redesignated as (b)(4); and paragraph (d) is removed and reserved, to read as follows:”

Dated: March 31, 2000.
Linwood A. Watson, Jr.,
Acting Secretary.

[FR Doc. 00-8457 Filed 4-6-00; 8:45 am]

BILLING CODE 6717-01-M